DEPARTMENT OF COMMERCE

National Oceanic and Atmospheric Administration

RIN 0648-XD849

Fisheries of the South Atlantic; South Atlantic Fishery Management Council; Public Meeting

AGENCY: National Marine Fisheries Service (NMFS), National Oceanic and Atmospheric Administration, NOAA, Commerce.

ACTION: Notice of a joint meeting of the South Atlantic Fishery Management Council's (Council) Shrimp Advisory Panel and Deepwater Shrimp Advisory Panel (AP).

SUMMARY: The South Atlantic Fishery Management Council will hold a joint meeting of its Shrimp and Deepwater Shrimp APs in North Charleston, SC. The meeting is open to the public.

DATES: The meeting will be held from 9 a.m. until 3 p.m. on Thursday, April 16, 2015.

ADDRESSES: Meeting address: The meeting will be held at the Hilton Garden Inn, 5265 International Blvd., N. Charleston, SC 29418; telephone: (843) 308-9330.

Council address: South Atlantic Fishery Management Council, 4055 Faber Place Drive, Suite 201, N. Charleston, SC, 29405.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; email: kim.iverson@safmc.net.

SUPPLEMENTARY INFORMATION: The Shrimp and Deepwater Shrimp Advisory Panels will meet jointly and receive an update on the NOAA Fisheries Biological Opinion for shrimp that includes the status of terms and conditions for the fishery, the Southeast Data, Assessment, and Review (SEDAR) 2014 Shrimp Procedural Workshop including data and procedures for a shrimp stock assessment and bycatch estimations, and the Oculina Evaluation Team Report which includes a response by the team to consider a shrimp access area within the area currently closed to fishing. The AP members will provide comments and recommendations on these agenda items as appropriate. The AP members will also receive an update on the status of Amendment 8 to the Coral Fishery Management Plan to expand coral protected areas and address other business as necessary.

Special Accommodations

The meeting is physically accessible to people with disabilities. Requests for auxiliary aids should be directed to the council office (see ADDRESSES) 3 days prior to the meeting.

Note: The times and sequence specified in this agenda are subject to change.

Dated: March 26, 2015.
Tracey L. Thompson,
Acting Deputy Director, Office of Sustainable Fisheries, National Marine Fisheries Service.

[FR Doc. 2015-07310 Filed 3-27-15; 8:45 am]

BILLING CODE 3510-22-P